ENVIRONMENTAL PROTECTION AGENCY

[FRL-6926-2]

Agency Information Collection Activities: Proposed Collection; Comment Request; Transition Program for Equipment Manufacturers

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Transition Program for Equipment Manufacturers, EPA ICR Number 1826.02, OMB Control Number 2060-0369, expiration date: April 30, 2001, renewal. Before submitting the ICR to OMB for review and approval, EPA is soliciting comments on specific aspects of the proposed information collection as described below.

DATES: Comments must be submitted on or before February 27, 2001.

ADDRESSES: Office of Transportation and Air Quality, Certification and Compliance Division, Engine Compliance Programs Group, Ariel Ríos Building, 1200 Pennsylvania Ave., NW, Mail Code 6403J, Washington, DC 20460. Interested persons may request a copy of the ICRs without charge from the contact person below.

FOR FURTHER INFORMATION CONTACT: Nydia Y. Reyes-Morales, tel.: (202) 564-9264; fax: (202) 565-2057; e-mail: reyes-morales.nydia@epa.gov.

SUPPLEMENTARY INFORMATION: Affected entities: Entities potentially affected by this action are original nonroad equipment manufacturers and nonroad engine manufacturers.

Title: Transition Program for Equipment Manufacturers (OMB Control No. 2060-0369; EPA ICR No. 1826.02) expiring on April 30, 2001, renewal.

Abstract: In August 1998, EPA promulgated new regulations for nonroad compression-ignited engines which established emission standards (Tier I standards) for engines under 37 kW, and tightened existing standards (Tier II standards) for engines above 37 kW. These regulations are likely to cause some engine design changes. During the rulemaking process, some equipment manufacturers expressed concerns about delays in notification from engine manufacturers about engine design changes. These design changes can create problems in fitting the engine to the equipment. Subsequently, equipment manufacturers would be unable to sell the volume of equipment they planned for, since they would need to redesign their equipment before any products could be sold. In response to these concerns, EPA created a Transition Program for Equipment Manufacturers (TPEM) in an effort to provide original equipment manufacturers (OEMs) with some flexibility in complying with the regulations. Under the program, OEMs are allowed to use a number of noncompliant engines (uncertified engines rated below 37 kW or Tier I engines rated at or above 37 kW) in their equipment for up to seven years.

Participation in the program is voluntary. Participating OEMs and engine manufacturers who provide the noncompliant engines to the OEMs are required to keep records and submit reports of their activities under the program. The information is collected by the Engine Programs Group, Certification and Compliance Division, Office of Transportation and Air Quality, Office of Air and Radiation. Confidentiality to proprietary information is granted in accordance with the Freedom of Information Act, EPA regulations at 40 CFR part 2, and class determinations issued by EPA's Office of General Counsel. An agency may not conduct or sponsor, and a person is not required to respond to, a collection of information unless it displays a currently valid OMB control number. The OMB control numbers for EPA's regulations are listed in 40 CFR part 9 and 48 CFR Chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: EPA estimates that this information collection will have 233 respondents. Each respondent will spent approximately 40 hours, once a year, to respond to this information collection. The total cost to each respondent is estimated at $2,006.87 per year plus $15 for annual operational and maintenance expenses. Respondents are expected to incur no capital, start up or purchase of service expenses. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: December 21, 2000.
Robert Perciasepe,
Assistant Administrator for Air and Radiation.

[FR Doc. 00-33357 Filed 12-28-00; 8:45 am]

BILLING CODE 6560-50-P